DEPARTMENT OF HEALTH AND HUMAN SERVICES

Administration for Community Living

Announcing the Intent To Award a One-Year Supplement To Continue Operating the Statewide Independent Living Councils (SILCs) Training and Technical Assistance (T&TA) Center

ACTION: Notice.

SUMMARY: The Administration for Community Living (ACL) announces the intent to award a one-year supplemental to the current grant held by Independent Living Research Utilization (ILRU) for technical assistance (TA) to Statewide Independent Living Councils (SILCs). The purpose of this grant is to provide TA to SILCs that supports them to operate effective organizations; fulfill their role in developing state plans for independent living; monitor, review, and evaluate the implementation of completed plans; and develop partnerships with designated state entities and other agencies to foster effective independent living programs. The administrative supplement for FY 2023 will be for $246,296, which will be the total award for FY 2023.

FOR FURTHER INFORMATION CONTACT: For further information or comments regarding this program supplement, contact Peter Nye, U.S. Department of Health and Human Services, Administration for Community Living, Administration on Disabilities, Office of Independent Living Programs; telephone (202) 795-7606; email peter.nye@acl.hhs.gov.

SUPPLEMENTARY INFORMATION:

ACL is required by statute to annually set aside 1.8-2% of program funds to provide TA to SILCs. For more than 30 years, ILRU continues to receive ACL funding for TA as they are the only national TA center that provides TA to SILCs in every state and territory. In partnership with the National Council on Independent Living (NCIL), the Association of Programs for Rural Independent Living (APRIL), and the University of Montana Rural Institute, ILRU's TA center, called “IL-NET” is committed to providing training and technical assistance for SILCs to enhance their overall efficiency and effectiveness. Their current funding runs through September 29, 2023.

The IL-NET is the only national center for information, training, research, and technical assistance in independent living, targeting both urban and rural areas. It is a program of TIRR Memorial Hermann, a nationally recognized medical rehabilitation facility for persons with disabilities. The IL-NET's mission as the T&TA provider for SILCs is to provide training and technical assistance that supports SILCs to (1) operate effective organizations; (2) fulfill their role in developing state plans for independent living; (3) monitor, review, and evaluate the implementation of completed plans; and (4) develop partnerships with designated state entities and other agencies to foster effective independent living programs.

Program Name: Statewide Independent Living Councils (SILCs) Training and Technical Assistance Center.

Recipient: Independent Living Research Utilization (ILRU).

Period of Performance: The award will be issued for the current project period of September 30, 2023 through September 29, 2024.

Total Award Amount: $246,296 in FY 2023.

Award Type: Grant Supplement.

Statutory Authority: The statutory authority is contained in the Rehabilitation Act of 1973, as amended.

Basis for Award: ACL is completing a year-long funded evaluation project conducted by RTI that determines the efficacy of current TA approaches used by the Office of Independent Living Programs. The research includes recommendations as to what should be included in future statements of work. That project will end late September 2023; the findings will inform the competition for TA providers next year. The goal of the one-year extension supplement is to continue to meet statutory requirements and provide timely, efficient, and responsive expertise in training and technical assistance for SILCs, while allowing ACL to compete out the TA center for the following year, drawing from the results of the evaluation research. This continued support to the SILC network will ensure there is no lapse in TA support and help them to improve their outcomes, operations, and governance.

Dated: August 4, 2023.
Richard Nicholls,
Chief of Staff.

[FR Doc. 2023-17054 Filed 8-8-23; 8:45 am]

BILLING CODE 4154-01-P